DEPARTMENT OF HEALTH AND HUMAN SERVICES

Centers for Disease Control and Prevention

[30Day-63-03]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503; or by fax to (202) 395-6974. Written comments should be received within 30 days of this notice.

Proposed Project: Work and Health Study: Risk Factors for Heart Disease and Depression in the Workplace—NEW—The National Institute for Occupational Safety and Health (NIOSH), Centers for Disease Control and Prevention (CDC).

Cardiovascular disease (CVD) and depression represent health problems of staggering proportion for the United States. An estimated 60 million Americans, over half of whom are younger than 65 years of age, currently have some form of CVD, and nearly 20 percent of all Americans will experience at least one episode of major depression during their lifetimes. In economic terms, the total yearly costs of CVD and depression in the United States have been estimated at $327 billion and $43 billion, respectively.

In addition to being common and costly health problems, CVD and depression co-morbidity is frequent, and recent studies have shown increased cardiovascular morbidity and mortality in depressed patients, implicating depression as a potential independent risk factor for CVD. Understanding the causes and etiologic relationships between these two illnesses represents a major challenge for public health researchers.

In addition to traditionally recognized risk factors, occupational factors appear to play a role in the etiology of both CVD and depression. For example, studies of occupational groups have shown markedly different rates of CVD and depression that are too large to be explained by known risk factors alone, and it is generally inferred that chemical, physical and/or work organizational exposures must be involved. While of relatively recent origins, the term “work organization” has evolved to serve as a rubric that encompasses diverse workplace exposures (often called job stressors) such as psychological demands, limited job control, work role demands and shift-work. There is considerable evidence that such factors play a role in the etiology of both CVD and depression, but design and sample size limitations of existing studies make it difficult to establish a causal association and make specific public health recommendations.

This proposed study will examine the relationships between specific job stressors, CVD and depression. To overcome the limitations of previous studies, we are proposing a five-year prospective study with a population of 20,000 workers, half of them women. Workers will be identified through 20 large businesses sampled from the four geographic Census regions of the U.S. Different types of businesses will be sampled in order to incorporate diverse types of jobs and work. Specific job stressors, perceived non-work stressors and general risk factors for CVD and depression will be assessed. To ascertain exposures and outcomes, the study will rely on employee medical records, blood samples, and both self-reports and work-site assessments of job conditions. Several instruments to evaluate the work environment will be used, including the NIOSH Generic Job Stress Questionnaire, which assess a variety of job stressors, as well as other relevant aspects of the work environment.

This request is for three years of the five-year proposed data collection with a total of 57,721 burden hours, and an average annualized burden of 28,860 hours.

Data | Number of respondents | Number of responses/ respondent | Average burden/response (in hours)
Baseline Interview/Blood Collection Biometrics | 21,993 | 1 | 75/60
Medical Records for Baseline | 4,398 | 1 | 30/60
Employer Information | 15 | 1 | 5
Follow-up Interview 1 | 17,594 | 1 | 30/60
Refusal Questionnaire | 4,399 | 1 | 5/60
Medical Records for Follow-up 1 | 3,519 | 1 | 30/60
Follow-up Interview 2 | 14,995 | 1 | 30/60
Refusal Questionnaire | 2,639 | 1 | 5/60
Medical Records for Follow-up 2 | 2,999 | 1 | 30/60
Follow-up Interview 3 | 12,712 | 1 | 30/60
Refusal Questionnaire | 2,243 | 1 | 5/60
Medical Records for Follow-up 3 | 2,542 | 1 | 30/60

Dated: August 19, 2003.
Nancy E. Cheal,
Acting Associate Director for Policy, Planning and Evaluation, Centers for Disease Control and Prevention.

[FR Doc. 03-21733 Filed 8-25-03; 8:45 am]

BILLING CODE 4163-18-P